DEPARTMENT OF ENERGY

Federal Energy Regulatory Commission

[Project No. 2420-059]

PacifiCorp; Notice of Application Tendered for Filing With the Commission and Establishing Procedural Schedule for Relicensing and Deadline for Submission ff Final Amendments

Take notice that the following hydroelectric application has been filed with the Commission and is available for public inspection.

a. Type of Application: New Major License.

b. Project No.: 2420-059.

c. Date Filed: March 28, 2022.

d. Applicant: PacifiCorp.

e. Name of Project: Cutler Hydroelectric Project.

f. Location: The existing project is located on the Bear River in Box Elder and Cache Counties, Utah. The project does not occupy any federal land or tribal land.

g. Filed Pursuant to: Federal Power Act 16 U.S.C. 791(a)-825(r).

h. Applicant Contact: Eve Davies, Cutler Relicensing Project Manager, PacifiCorp, 1407 West North Temple, Suite 210, Salt Lake City, UT 84116; (801) 220-2245.

i. FERC Contact: Khatoon Melick, (202) 502-8433 or khatoon.melick@ferc.gov.

j. This application is not ready for environmental analysis at this time.

k. The Cutler Hydroelectric Project consists of: (1) A concrete gravity arch dam with a total length of 545 feet and a structural height of 126 feet with an approximately 30-foot-long gated-overflow spillway with crest elevation at 4,394.5 feet; (2) a 2,476-acre reservoir with a gross storage volume of 8,563 acre-feet and a normal maximum operating elevation of 4,407.5 feet above mean sea level (USGS); (2)(3) a 1,157-foot-long, 18-foot-diameter steel flowline; (4) an 81-foot-high, 45-foot-diameter Johnson Differential surge tank; (5) two 118-foot-long, 14-foot-diameter steel penstocks that bifurcate from the surge tank into the powerhouse; (6) a 74-foot by 130-foot brick powerhouse; (7) two General Electric 15,000 kilowatt generators with a total installed capacity of 30 megawatts; (8) two 300-foot-long, 7.2- and 6.9-kilovolt transmission lines that extend from the powerhouse's bus bar to step-up transformers located in the Cutler substation; and (9) appurtenant facilities. The estimated normal gross head of the project is 127.5 feet. The estimate average annual generation of the project from 1991 to 2020 is 75,052 megawatt-hours.

The project is the furthest downstream of the five PacifiCorp hydroelectric developments on the Bear River system. The Bear River system is collectively operated by PacifiCorp and is a coordinated operation of storage reservoirs, diversion dams, canals, and hydroelectric plants located within a 3,500-square-mile area of the lower Bear River Basin in Idaho and Utah. Water is diverted from the Bear River into Bear Lake, which is a natural lake via the Rainbow Canal. Outside of the irrigation season, Bear Lake flood control releases, along with winter and spring Bear River drainage natural water flows, create the base for generation at the Cutler Project. In southern Cache Valley, there are local drainage basins that also contribute significant inflows to the project. From mid-June to mid-October, nearly all the natural flow from the Bear River is diverted for irrigation. Supplemental flow comes from water stored in Bear Lake. Given that during the irrigation season most of the inflow into the project is sent to the irrigation canals and the reservoir must maintain certain elevations, generation at the powerhouse is virtually nonexistent from approximately mid-May to the end of September, unless water is available in higher flow years.

PacifiCorp proposes to continue to operate the project in a run-of-river mode and maintain the current upper operating limit elevation on the reservoir, with a modest expansion to the tolerance. PacifiCorp also proposes expanding the range of the lower operating limit outside the irrigation season, both to increase operational flexibility. Increasing the operating range is to support variable (e.g., wind and solar) energy generation needs and would not increase the volume of water available for energy generation.

l. A copy of the application can be viewed on the Commission's website at http://www.ferc.gov, using the “eLibrary” link. Enter the docket number, excluding the last three digits in the docket number field, to access the document (P-2420). For assistance, contact FERCOnlineSupport@ferc.gov, or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | April 2022.
Request Additional Information (if necessary) | June 2022.
Notice of Acceptance/Notice of Ready for Environmental Analysis | September 2022.

o. Final amendments to the application must be filed with the Commission no later than 30 days from the issuance date of the notice of ready for environmental analysis.

Dated: April 11, 2022.
Debbie-Anne A. Reese,
Deputy Secretary.

[FR Doc. 2022-08128 Filed 4-14-22; 8:45 am]

BILLING CODE 6717-01-P